DEPARTMENT OF THE INTERIOR

Bureau of Indian Affairs

[AAK6006201 134A2100DD AOR3B3030.999900]

Draft Environmental Impact Statement for the Proposed Fee-to-Trust Transfer of Property and Subsequent Development of a Resort/Hotel and Ancillary Facilities in the City of Taunton, Massachusetts and Tribal Government Facilities in the Town of Mashpee, Massachusetts by the Mashpee Wampanoag Tribe

AGENCY: Bureau of Indian Affairs, Interior.

ACTION: Notice of availability.

SUMMARY: This notice advises the public that the Bureau of Indian Affairs as lead agency, with the Mashpee Wampanoag Tribe, serving as a cooperating agency, intends to file a draft environmental impact statement (DEIS) with the U.S. Environmental Protection Agency regarding the Tribe's application for the conveyance into trust of title to lands located in Mashpee and Taunton, Massachusetts, for the benefit of the Mashpee Wampanoag Tribe. This notice also announces that the DEIS is now available for public review and that public hearings will be held to receive comments on the DEIS.

DATES: The date of the public hearing will be announced at least 15 days in advance through notices in the following newspapers: Taunton Daily Gazette and the Cape Cod Times, and on the following Web site: www.mwteis.com. Written comments on the DEIS must arrive within 45 days after the Environmental Protection Agency publishes its Notice of Availability in the Federal Register.

ADDRESSES: You may mail or hand-deliver written comments to Mr. Franklin Keel, Eastern Regional Director, Bureau of Indian Affairs, Eastern Region, 545 Marriott Drive, Suite 700, Nashville, Tennessee 37214. Public hearings will be held at the Taunton High School, 50 William Street, Taunton, Massachusetts, and Mashpee High School, 500 Old Barnstable Road, Mashpee, Massachusetts. See the SUPPLEMENTARY INFORMATION section of this notice for addresses where the DEIS is available for review.

FOR FURTHER INFORMATION CONTACT: Mr. Chet L. McGhee, Regional Environmental Scientist, Bureau of Indian Affairs, Eastern Regional Office, 545 Marriott Drive, Suite 700, Nashville, Tennessee 37214; fax (615) 564-6571; telephone (615) 564-6500.

SUPPLEMENTARY INFORMATION: Public review of the DEIS is part of the administrative process for the evaluation of the Mashpee Wampanoag Tribe's application under section 5 of Indian Reorganization Act (IRA) (25 U.S.C. 461, et. seq). Under Council on Environmental Quality National Environmental Policy Act (NEPA) regulations (40 CFR 1506.10), the publication of the Notice of Availability by Environmental Protection Agency in the Federal Register initiates the 45-day public comment period.

The Tribe's proposed development contemplated for the trust lands consists of the following components:

(1) Acquisition in trust of approximately 151 acres in Taunton, Massachusetts, and approximately 170 acres in Mashpee in accordance with section 5 of the IRA and the procedures set forth in 25 CFR part 151;

(2) The Secretary of the Interior's issuance of a reservation proclamation under section 7 of the IRA under which the site would be the “initial reservation” of the Tribe eligible for gaming under section 20(b)(1)(B) of the Indian Gaming Regulatory Act; and

(3) Development of a resort/hotel and gaming facility within the project site in Taunton, Massachusetts, and development of Tribal Government facilities within the site area located in Mashpee, Massachusetts.

At full build-out, the Tribe's proposed resort/hotel and gaming facility would have approximately132,000 square feet of gaming floor. Access to the Taunton site would be via O'Connell Way, off of Stevens Street, near the intersection of Stevens Street and Route 140 in Taunton, Massachusetts.

The following alternatives are considered in the DEIS:

(A) The development as proposed by the Tribe;

(B) Reduced Intensity I Alternative;

(C) Reduced Intensity II Alternative; and

(D) No Action Alternative.

Environmental issues addressed in the DEIS include: Transportation; wetlands and other waters of the U.S.; storm water; geology and soils; rare species and wildlife habitat; hazardous materials; water supply; wastewater; utilities; solid waste; air quality; greenhouse gas; cultural resources; noise, visual impacts; socio-economics; environmental justice; cumulative effects and indirect and growth-inducing effects.

The BIA held public scoping meetings for the project on June 20, 2012, at Taunton High School in Taunton, Massachusetts, and on June 21, 2012, at Mashpee High School in Mashpee, Massachusetts.

Directions for Submitting Comments: Please include your name, return address, and the caption: “DEIS comments for proposed fee-to-trust transfer of lands by the Mashpee Wampanoag Tribe” on the first page of your written comments.

Locations Where the DEIS Is Available for Review: The DEIS will be available for review at the Taunton Public Library, 12 Pleasant St Taunton, Massachusetts 02780; the Mashpee Public Library, 64 Steeple Street, Mashpee, Massachusetts 02649; and the Mashpee Wampanoag Tribe Headquarters at 483 Great Neck Rd. South, Mashpee, Massachusetts, 02649. The DEIS is also available online at: http://www.mwteis.com.

To obtain a compact disk copy of the DEIS, please provide your name and address in writing or by voicemail to Mr. Chet L. McGhee, Regional Environmental Scientist, Bureau of Indian Affairs, Eastern Regional Office. Contact information is listed in the FOR FURTHER INFORMATION CONTACT section of this notice. Individual paper copies of the DEIS will be provided only upon payment of applicable printing expenses by the requestor for the number of copies requested.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you may ask in your comment that your personal identifying information be withheld from public review, the BIA cannot guarantee that this will occur.

Authority: This notice is published in accordance with § 1503.1 of the Council on Environmental Quality regulations (40 CFR 1500 et seq.) and the Department of the Interior Regulations (43 CFR part 46) implementing the procedural requirements of the NEPA (42 U.S.C. 4321 et seq.), and in accordance with the exercise of authority delegated to the Assistant Secretary—Indian Affairs by part 209 of the Department Manual.

Kevin K. Washburn,
Assistant Secretary—Indian Affairs.

[FR Doc. 2013-27374 Filed 11-14-13; 8:45 am]

BILLING CODE 4310-W7-P